COMMISSION ON CIVIL RIGHTS

Agenda and Notice of Public Meeting of the Illinois Advisory Committee

Notice is hereby given, pursuant to the provisions of the rules and regulations of the U.S. Commission on Civil Rights (Commission), and the Federal Advisory Committee Act (FACA), that a meeting and briefing of the Illinois Advisory Committee to the Commission will convene at 9:00 a.m. and adjourn at 1:00 p.m. on June 7, 2012, at 515 N. State Street, Suite 2800, Chicago, IL 60654. The purpose of the meeting is to conduct planning and business activities of the Committee and to hear a briefing on mass incarceration issues in Illinois. Participants of the meeting will include scholars and community representatives.

Members of the public are entitled to submit written comments; the comments must be received in the regional office by July 9, 2012. The address is 55 W. Monroe St., Suite 410, Chicago, IL 60603. Persons wishing to email their comments, or to present their comments verbally at the meeting, or who desire additional information should contact Carolyn Allen, Administrative Assistant, (312) 353-8311, or by email: callen@usccr.gov.

Hearing-impaired persons who will attend the meeting and require the services of a sign language interpreter should contact the Regional Office at least ten (10) working days before the scheduled date of the meeting.

Records generated from this meeting may be inspected and reproduced at the Midwestern Regional Office, as they become available, both before and after the meeting. Persons interested in the work of this advisory committee are advised to go to the Commission's Web site, www.usccr.gov, or to contact the Midwestern Regional Office at the above email or street address.

The meeting will be conducted pursuant to the provisions of the rules and regulations of the Commission and FACA.

Dated in Washington, DC, May 7, 2012.
Peter Minarik,
Acting Chief, Regional Programs Coordination Unit.

[FR Doc. 2012-11311 Filed 5-9-12; 8:45 am]

BILLING CODE 6335-01-P